DEPARTMENT OF HOMELAND SECURITY

[Docket No. DHS-2012-0003]

Protected Critical Infrastructure Information (PCII) Program Survey

AGENCY: National Protection and Programs Directorate, DHS.

ACTION: 60-day notice and request for comments; Reinstatement, with change, of a previously approved collection: 1670-0012.

SUMMARY: The Department of Homeland Security (DHS), National Protection and Programs Directorate (NPPD), Office of Infrastructure Protection (IP), Infrastructure Information Collection Division (IICD), will submit the following Information Collection Request to the Office of Management and Budget (OMB) for review and clearance in accordance with the Paperwork Reduction Act of 1995 (Pub. L. 104-13, 44 U.S.C. chapter 35).

DATES: Comments are encouraged and will be accepted until August 13, 2012. This process is conducted in accordance with 5 CFR 1320.1.

ADDRESSES: Written comments and questions about this Information Collection Request should be forwarded to DHS/NPPD/IP/IICD, 245 Murray Lane, SW., Mailstop 0602, Arlington, VA 20598-0602. Email requests should go to Vickie Bovell, Vickie.Bovell@dhs.gov. Written comments should reach the contact person listed no later than August 13, 2012. Comments must be identified by “DHS-2012-0003” and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: The Protected Critical Infrastructure Information (PCII) Program was created according to the Critical Infrastructure Information (CII) Act of 2002 for DHS to encourage voluntary information sharing by owners and operators of critical infrastructure and protected systems. The PCII Program provides standardized training for stakeholders to become PCII Authorized Users and PCII Officer/PCII Program Manager Designees. To further its mission, the PCII Program requires supporting information from these stakeholders regarding its training programs. The information collected by this survey serves this purpose. The survey data collected is for internal PCII Program, IICD, and NPPD/IP use only.OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection, Infrastructure Information Collection Division, Protected Critical Infrastructure Information Program.

Title: Protected Critical Infrastructure Information (PCII) Program Survey.

OMB Number: 1670-0012.

Frequency: Annually.

Affected Public: Federal, state, and local entities, and stakeholders or private sector.

Number of Respondents: 3,060 respondents (estimate).

Estimated Time per Respondent: 10 minutes.

Total Burden Hours: 408 annual burden hours.

Total Burden Cost (capital/startup): $0.

Total Recordkeeping Burden: $0.

Total Burden Cost (operating/maintaining): $15,224.00.

Dated: May 31, 2012.
Richard Driggers,
Acting Chief Information Officer, National Protection and Programs Directorate, Department of Homeland Security.

[FR Doc. 2012-14584 Filed 6-13-12; 8:45 am]

BILLING CODE 9110-9P-P